DEPARTMENT OF TRANSPORTATION

National Highway Traffic Safety Administration

[Docket No. NHTSA 2005-22118; Notice 2]

Eaton Aeroquip, Inc., Grant of Petition for Decision of Inconsequential Noncompliance

Eaton Aeroquip, Inc. (Eaton) has determined that the end fittings that it produced for nylon air brake hoses do not comply with S7.2.2(d) of 49 CFR 571.106, Federal Motor Vehicle Safety Standard (FMVSS) No. 106, “Brake hoses.” Pursuant to 49 U.S.C. 30118(d) and 30120(h), Eaton has petitioned for a determination that this noncompliance is inconsequential to motor vehicle safety and has filed an appropriate report pursuant to 49 CFR part 573, “Defect and Noncompliance Reports.” Notice of receipt of a petition was published, with a 30-day comment period, on August 25, 2005, in the Federal Register (70 FR 49972). NHTSA received no comments.

Affected are a total of approximately 7,784,614 end fittings produced from 2001 to June 30, 2005, plus an indeterminate number of end fittings produced prior to 2001 for which records are not available (Eaton acquired the end fitting manufacturing business on November 1, 2002). S7.2.2(d) of FMVSS No. 106 requires that each fitting shall be etched, embossed, or stamped with

(d) The * * * outside diameter of the plastic tubing to which the fitting is properly attached expressed in inches or fractions of inches or in millimeters followed by the letters OD * * *.

The subject end fittings are missing the letters OD from their labels.

Eaton believes that the noncompliance is inconsequential to motor vehicle safety and that no corrective action is warranted. Eaton states that the purpose of the letters OD on the label is to indicate that the measurement refers to the outside diameter of a plastic tube as opposed to the inside diameter. Eaton points out that if the end user was to assume that the measurement referred to the inside diameter because of the absence of the letters OD, it “would be physically impossible, for example, to insert a ½ inch inside diameter hose into an end fitting made for ½ inch outside diameter plastic tubing.” According to Eaton, “if an end-user were to mistakenly attempt to use the mislabeled end fittings with a hose, instead of plastic tubing, the incompatibility would be obvious because the diameters would not match.” Eaton states that therefore, “there is no potential that the mislabeled end fittings could be used improperly, and there could be no resulting issue of motor vehicle safety.”

NHTSA agrees with Eaton that the noncompliance is inconsequential to motor vehicle safety. Should someone mistakenly assume the outside diameter size marking was an inside diameter size marking, it would be physically impossible to mismatch the hose and the end fitting. Therefore a safety issue would not arise from this noncompliance. Eaton has corrected the problem.

In consideration of the foregoing, NHTSA has decided that the petitioner has met its burden of persuasion that the noncompliance described is inconsequential to motor vehicle safety. Accordingly, Eaton's petition is granted and the petitioner is exempted from the obligation of providing notification of, and a remedy for, the noncompliance.

Authority: (49 U.S.C. 30118, 30120; delegations of authority at CFR 1.50 and 501.8).

Issued on: October 4, 2005.
Ronald L. Medford,
Senior Associate Administrator for Vehicle Safety.

[FR Doc. 05-20356 Filed 10-7-05; 8:45 am]

BILLING CODE 4910-59-P